DEPARTMENT OF HOMELAND SECURITY

Coast Guard

33 CFR Part 117

[Docket No. USCG-2012-0330]

Drawbridge Operation Regulation; Intracoastal Waterway, Chesapeake, VA

AGENCY: Coast Guard, DHS.

ACTION: Notice of temporary deviation from regulations.

SUMMARY: The Commander Fifth Coast Guard District has issued a temporary deviation from the regulations governing the operation of the Norfolk Southern #7 Railroad Bridge, across the Intracoastal Waterway, mile 5.8, in Chesapeake, VA. The deviation is necessary to facilitate replacing the lift joints of the drawbridge. This deviation restricts operation of the draw span, allowing it to remain in the closed position for three days.

DATES: This deviation is effective 6 a.m. May 8, 2012, until 8 p.m. May 10, 2012.

ADDRESSES: Documents mentioned in this preamble as being available in the docket are part of docket USCG-2012-0330 and are available online by going to www.regulations.gov, inserting USCG-2012-0330 in the “Keyword” box and then clicking “Search”. They are also available for inspection or copying at the Docket Management Facility (M-30), U.S. Department of Transportation, West Building Ground Floor, Room W12-140, 1200 New Jersey Avenue SE., Washington, DC 20590, between 9 a.m. and 5 p.m., Monday through Friday, except Federal holidays.

FOR FURTHER INFORMATION CONTACT: If you have questions on this rule, call or email Terrance Knowles, Environmental Protection Specialist, Fifth Coast Guard District, at telephone 757-398-6587, email Terrance.A.Knowles@uscg.mil. If you have questions on viewing the docket, call Renee V. Wright, Program Manager, Docket Operations, telephone 202-366-9826.

SUPPLEMENTARY INFORMATION: The Norfolk Southern Corporation, who owns and operates this single-leaf bascule drawbridge, has requested a temporary deviation from the current operating regulations set out in 33 CFR 117.997(d) to facilitate mechanical repairs.

The Norfolk Southern #7 Bridge, at AIWW mile 5.8, across the Elizabeth River (Southern Branch) in Chesapeake, VA, has a vertical clearance in the closed position to vessels of 7 feet above mean high water.

Under the regular schedule set out at 33 CFR 117.997(d)(2), the Norfolk Southern #7 Bridge, at AIWW mile 5.8, across the Elizabeth River (Southern Branch) in Chesapeake, VA, shall be left in the open position to vessels and will only be closed for the passage of trains and to perform periodic maintenance.

To facilitate replacement of the lift joints of the draw span, the bridge will be maintained in the closed-to-navigation position each day from 6 a.m. to 8 p.m. on May 8, 2012 through May 10, 2012.

Vessels that can pass under the bridge without a bridge opening may do so at all times. The bridge normally operates in the open position with several vessels transiting a week. There are no alternate routes for vessels transiting this section of the Elizabeth River.

Normal users of the waterway in the month of May are primarily recreational boats along with tug and barge traffic in the daytime. The bridge will be unable to open for emergencies.

To ensure that waterway users are aware of the closure, the Coast Guard will issue a Local and Broadcast Notices to Mariners to allow mariners to schedule their transits accordingly.

In accordance with 33 CFR 117.35(e), the drawbridge must return to its regular operating schedule immediately at the end of the designated time period. This deviation from the operating regulations is authorized under 33 CFR 117.35.

Dated: April 16, 2012.
Waverly W. Gregory, Jr.,
Bridge Program Manager, Fifth Coast Guard District.

[FR Doc. 2012-10416 Filed 4-30-12; 8:45 am]

BILLING CODE 9110-04-P